DEPARTMENT OF COMMERCE

International Trade Administration

Exporters' Textile Advisory Committee; Solicitation for Members

The Secretary of Commerce initially established the Exporters' Textile Advisory Committee (“Committee”) on March 24, 1966. The Committee's Charter was last extended for two years on October 30, 2006 and will expire on October 30, 2008. It is anticipated that the Committee will be renewed for another term, from October 31, 2008 through October 30, 2010. Therefore, the Committee is seeking additional new members.

The Committee shall consist of approximately 35 members appointed by the Secretary of Commerce to ensure a balanced representation of textile and apparel products. Representatives of small, medium and large firms with broad geographical distribution in exporting shall be included on the Committee. Members shall represent the views of their companies, trade associations and other entities on matters that affect their business interest in exporting.

The Committee shall function solely as an advisory body in compliance with the provisions of the Federal Advisory Committee Act.

Persons interested in becoming members are invited to submit a letter to R. Matthew Priest, Deputy Assistant Secretary for Textiles and Apparel, U.S. Department of Commerce, Washington, DC 20230, telephone: (202) 482-3737. Letters must include the applicant's social security number, date of birth, place of birth and home address. This information is required to process a records check to determine suitability for membership.

Announcement closing date is August 5, 2008.

Dated: July 2, 2008.

R. Matthew Priest,
Deputy Assistant Secretary for Textiles and Apparel.

[FR Doc. E8-15755 Filed 7-9-08; 8:45 am]

BILLING CODE 3510-DS-S